DEPARTMENT OF ENERGY

Federal Energy Regulatory Commission

[Project No. 2000-010]

New York Power Authority; Notice Modifying a Restricted Service List for Comments on a Programmatic Agreement for Managing Properties Included in or Eligible for Inclusion in the National Register of Historic Places

June 5, 2000.

On April 14, 2000, the Federal Energy Regulatory Commission (Commission) issued a notice of the St. Lawrence-FDR Power Project (FERC No. 2000-010) proposing to establish a restricted service list for the purpose of developing and executing a Programmatic Agreement for managing properties included in or eligible for inclusion in the National Register of Historic Places. The St. Lawrence-FDR Power Project is located on the St. Lawrence River, in St. Lawrence County, New York. The New York Power Authority is the licensee.

On May 1, 2000, the Department of the Interior (Interior) filed a request to be added to the restricted service list established pursuant to Commission's Notice of April 14, 2000. In support of the request, Interior notes that it has an interest in the development of a Programmatic Agreement for managing and protecting Historic Properties affected by the St. Lawrence-FDR Power Project. Furthermore, Interior notes that it is an active participant in the St. Lawrence-FDR Power Project proceeding and should be included on the restricted service list.

Rule 2010 of the Commission's Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹ 18 CFR 385.2010.

Interior has been and would continue to be an active party in the relicensing proceeding for the project. Therefore, Interior will be added to the restricted service list.

The following additions are made to the restricted service list notice issued on April 14, 2000, for Project No. 2000-010:

Francis Jock, St. Regis Mohawk Tribe, 561 County Rte. 1, Fort Covington, NY 12937.

Lydia T. Grimm, Department of the Interior, Office of the Solicitor-Div. Indian Affairs, 1849 C Street, NW, Mailstop 6456, Washington, DC 20240.

Malka Pattison, Department of the Interior, Bureau of Indian Affairs, 1849 C Street, NW, Mailstop 4513, Washington, DC 20240.

Kevin Mendik, National Park Service, 15 State Street, Boston, MA 02109.

Judith M. Stolfo, Department of the Interior, Office of the Regional Solicitor, One Gateway Center, Suite 612, Newton, MA 02458-2802.

David P. Boergers,
Secretary.

[FR Doc. 00-14552 Filed 6-8-00; 8:45 am]

BILLING CODE 6717-01-M